SECURITIES AND EXCHANGE COMMISSION

Issuer Delisting; Notice of Application To Withdraw From Listing and Registration on the Pacific Exchange, Inc. (Aquila, Inc. (Formerly Known as UtiliCorp United, Inc.), Common Stock, $1.00 Par Value) File No. 1-16315

January 16, 2003.

Aquila, Inc. (formerly known as UtiliCorp United, Inc.), a Delaware corporation (“Issuer”), has filed an application with the Securities and Exchange Commission (“Commission”), pursuant to section 12(d) of the Securities Exchange Act of 1934 (“Act”)¹ and Rule 12d2-2(d) thereunder,² to withdraw its Common Stock, $1.00 par value (“Security”), from listing and registration on the Pacific Exchange, Inc. (“PCX” or “Exchange”).

¹ 15 U.S.C. 78l(d).

² 17 CFR 240.12d2-2(d).

The Board of Directors (“Board”) of the Issuer approved a resolution on December 2, 2002 to withdraw its Security from listing on the Exchange. The Issuer states that it decided to delist the Security from the PCX as part of the cost-saving measures currently employed by the Issuer in light of its challenging financial situation. In addition, the low volume of trading in the Security (less than 1%) on the PCX does not justify the PCX's listing cost. The Issuer states that 99.6% of the trading in the Security is traded on the New York Stock Exchange, Inc. (“NYSE”).

The Issuer stated in its application that it has complied with the rules of the PCX that govern the removal of securities from listing and registration on the Exchange. The Issuer's application relates solely to the withdrawal of the Security from listing and registration on the PCX and from registration under section 12(b)³ of the Act and shall not affect its obligation to be registered under section 12(g) of the Act.⁴

³ 15 U.S.C. 78l(b).

⁴ 15 U.S.C. 78l(g).

Any interested person may, on or before February 7, 2003, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-1450 Filed 1-22-03; 8:45 am]

BILLING CODE 8010-01-M